DEPARTMENT OF ENERGY

Federal Energy Regulatory Commission

[Project No. 4914]

International Paper Company; Errata Notice

December 4, 2002.

The comment date was omitted from the Notice of Application Tendered for Filing with the Commission, Soliciting Additional Study Requests, and Establishing Procedural Schedule for Relicensing and a Deadline for Submission of Final Amendments issued on November 27, 2002 (67 FR 72161, December 4, 2002). The comment date should be January 21, 2003.

Linwood A. Watson, Jr.,
Deputy Secretary.

[FR Doc. 02-31141 Filed 12-9-02; 8:45 am]

BILLING CODE 6717-01-P